COMMISSION ON CIVIL RIGHTS

Agenda and Notice of Public Meeting of the Delaware Advisory Committee

AGENCY: Commission on Civil Rights.

ACTION: Announcement of meetings.

SUMMARY: Notice is hereby given, pursuant to the provisions of the rules and regulations of the U.S. Commission on Civil Rights (Commission), and the Federal Advisory Committee Act (FACA), that the Delaware Advisory Committee to the Commission will hold virtual meetings on Wednesday, October 6, 2021; Wednesday, November 3, 2021; and Wednesday, December 1, 2021, from 1:00 p.m.-2:00 p.m. (ET). The purpose of the meetings is for project planning pre and post briefings on the topic of COVID 19 and health disparities.

DATES: These meetings will be held from 1:00 p.m. to 2:00 p.m. (ET) on 10/6/21, 11/3/21, and 12/1/21. The access information for all three meetings is the same:

• To join by web conference:

• To join by phone only, dial 1-800-360-9505; Access code: 199 118 9479.

FOR FURTHER INFORMATION CONTACT: Ivy L. Davis, at ero@usccr.gov or by phone at 202-376-7533.

SUPPLEMENTARY INFORMATION: These meetings are available to the public through the Webex links above. If joining only via phone, callers can expect to incur charges for calls they initiate over wireless lines, and the Commission will not refund any incurred charges.

Individuals who are deaf, deafblind and hard of hearing. may also follow the proceedings by first calling the Federal Relay Service at 1-800-877-8339 and providing the Service with the call-in number found through registering at the web link provided for each meeting.

Members of the public are entitled to make comments during the open period at the end of each meeting. Members of the public may also submit written comments; the comments must be received in the Regional Programs Unit within 30 days following the respective meeting. Written comments may be emailed to Mallory Trachtenberg at mtrachtenberg@usccr.gov. Persons who desire additional information may contact the Regional Programs Unit at (202) 809-9618.

Records and documents discussed during the meeting will be available for public viewing as they become available at www.facadatabase.gov. Persons interested in the work of this advisory committee are advised to go to the Commission's website, www.usccr.gov, or to contact the Regional Programs Unit at the above phone number or email address.

Agenda

Wednesdays at 1:00 p.m. (ET): Oct. 6, Nov. 3, and Dec. 1, 2021.

I. Welcome and Roll Call

II. Project Planning

III. Other Business

IV. Next Planning Meeting

V. Public Comments

VI. Adjourn

Dated: September 14, 2021.
David Mussatt,
Supervisory Chief, Regional Programs Unit.

[FR Doc. 2021-20182 Filed 9-16-21; 8:45 am]

BILLING CODE P